DEPARTMENT OF DEFENSE

Office of the Secretary

Charter Amendment of Department of Defense Federal Advisory Committees

AGENCY: Department of Defense.

ACTION: Amendment of Federal Advisory Committee.

SUMMARY: The Department of Defense (DoD) is publishing this notice to announce that it is amending the charter for the Defense Acquisition University Board of Visitors, the Defense Science Board, the Strategic Environmental Research and Development Program Scientific Advisory Board, and the Threat Reduction Advisory Committee.

FOR FURTHER INFORMATION CONTACT: Jim Freeman, Advisory Committee Management Officer for the Department of Defense, 703-692-5952.

SUPPLEMENTARY INFORMATION: Each committee's charter is being amended in accordance with the Federal Advisory Committee Act (FACA) of 1972 (5 U.S.C., Appendix, as amended) and 41 CFR 102-3.50(d). Pursuant to statutory changes that took effect on February 1, 2018, the DoD disestablished the Office of the Under Secretary of Defense for Acquisition, Technology, and Logistics (OUSD(AT&L)), and established the Office of the Under Secretary of Defense for Acquisition and Sustainment (OUSD(A&S)) and the Office of the Under Secretary of Defense for Research and Engineering (OUSD(R&E)). The DoD is amending the charters for each of these advisory committees to reflect a change in the committee's DoD Sponsor. The USD(A&S) will be the DoD Sponsor for the Defense Acquisition University Board of Visitors, and the Threat Reduction Advisory Committee. The USD(R&E) will be the DoD Sponsor for the Defense Science Board, and the Strategic Environmental Research and Development Program Scientific Advisory Board. The amended charter and contact information for the Designated Federal Officer (DFO) can be obtained at http://www.facadatabase.gov/.

Dated: February 6, 2018.
Aaron Siegel,
Alternate OSD Federal Register Liaison Officer, Department of Defense.

[FR Doc. 2018-02634 Filed 2-8-18; 8:45 am]

BILLING CODE 5001-06-P